DEPARTMENT OF EDUCATION

National Advisory Committee on Institutional Quality and Integrity (National Advisory Committee); Notice of Meeting Changes

AGENCY: National Advisory Committee on Institutional Quality and Integrity, Department of Education.

SUMMARY: This notice advises interested parties of changes concerning the upcoming meeting of the National Advisory Committee and amends information provided in the original meeting notice published in the October 3, 2005 Federal Register (70 FR 57570).

FOR FURTHER INFORMATION CONTACT: Ms. Francesca Paris-Albertson, in the office of the Executive Director of the National Advisory Committee on Institutional Quality and Integrity, U.S. Department of Education, room 7107, 1990 K St., NW., Washington, DC 20006, telephone: (202) 502-7671, fax: (202) 219-7008, e-mail: Francesca.Paris-Albertson@ed.gov. Individuals who use a telecommunications device for the deaf (TDD) may call the Federal Information Relay Service at 1-800-877-8339.

SUPPLEMENTARY INFORMATION: The changes to the agenda are as follows:

(1) On Wednesday, December 7, 2005, the National Advisory Committee is now scheduled to meet from 9:30 a.m. until 5:30 p.m. and on Thursday, December 8, 2005, the National Advisory Committee is now scheduled to meet from 8:30 a.m. until approximately 5 p.m. The National Advisory Committee will not meet on Friday, December 9, 2005.

(2) The agency listed below, which was originally scheduled for review during the National Advisory Committee's December 2005 meeting, will be postponed for review until a future meeting.

• American Bar Association, Council of the Section of Legal Education and Admissions to the Bar (Current and requested scope of recognition: The accreditation throughout the United States of programs in legal education that lead to the first professional degree in law, as well as freestanding law schools offering such programs.)

Any third-party written comments regarding this agency that were received by August 24, 2005, in accordance with the Federal Register notice published on July 25, 2005, will become part of the official record, and those comments will be considered by the National Advisory Committee when it reviews the agency's petition for continued recognition at a future meeting. In addition, prior to the meeting, another opportunity to provide written comments on the agency will be announced in a Federal Register notice.

(3) This notice amends the information previously provided for the agency listed below. In addition to reviewing the agency's request for renewal of recognition, the National Advisory Committee will review the agency's request for an expansion of its scope of recognition. This notice invites written comments on the agency's request for an expansion of scope.

• National Council for Accreditation of Teacher Education (Current scope of recognition: The accreditation throughout the United States of professional education units providing baccalaureate and graduate degree programs for the preparation of teachers and other professional personnel for elementary and secondary schools.) (Requested scope of recognition: The accreditation throughout the United States of professional education units providing baccalaureate and graduate degree programs for the preparation of teachers and other professional personnel for elementary and secondary schools, including programs offering distance education.)

Where Should I Submit My Comments?

Please submit your written comments by mail, fax, or e-mail no later than November 7, 2005 to Ms. Robin Greathouse, Accreditation and State Liaison. You may contact her at the U.S. Department of Education, room 7105, 1990 K Street, NW., Washington, DC 20006, telephone: (202) 219-7011, fax: (202) 219-7005, or e-mail: Robin.Greathouse@ed.gov. Individuals who use a telecommunications device for the deaf (TDD) may call the Federal Information Relay Service at 1-800-877-8339.

How May I Obtain Electronic Access to This Document?

You may view this document, as well as all other Department of Education documents published in the Federal Register, in text or Adobe Portable Document Format (PDF) on the Internet at the following site: http://www.ed.gov/legislation/FedRegister.To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: October 17, 2005.
Sally L. Stroup,
Assistant Secretary for Postsecondary Education.

[FR Doc. 05-21077 Filed 10-20-05; 8:45 am]

BILLING CODE 4000-01-P